DEPARTMENT OF TRANSPORTATION

Surface Transportation Board

[Docket No. FD 35880]

Bogalusa Bayou Railroad, L.L.C.—Acquisition of Trackage Rights Exemption Containing Interchange Commitment—Illinois Central Railroad Company

Bogalusa Bayou Railroad, L.L.C. (BBRR),¹ a noncarrier, has filed a verified notice of exemption under 49 CFR 1150.31 to acquire overhead trackage rights over a one-mile rail line owned by Illinois Central Railroad Company (IC) extending between milepost 68.85, at Leescreek, La., and milepost 69.85, at Bogalusa, La., pursuant to an agreement between BBRR and IC.

¹ BBRR is a wholly owned subsidiary of Watco Holdings, Inc.

This transaction is related to a concurrently filed verified notice of exemption in Watco Holdings, Inc.—Continuance in Control Exemption—Bogalusa Bayou Railroad, Docket No. FD 35882, wherein Watco Holdings, Inc., seeks Board approval under 49 CFR 1180.2(d)(2) to continue in control of BBRR, upon BBRR's becoming a Class III rail carrier.

BBRR states that the agreement precludes BBRR from interchanging traffic with a third party. As required under 49 CFR 1150.33(h)(1), BBRR has provided additional information concerning the interchange commitment.

BBRR has certified that its projected annual revenues as a result of this transaction will not result in BBRR's becoming a Class II or Class I rail carrier and will not exceed $5 million.

This transaction may be consummated on or after December 31, 2014, the effective date of the exemption (30 days after the verified notice of exemption was filed).

If the verified notice contains false or misleading information, the exemption is void ab initio. Petitions to revoke the exemption under 49 U.S.C. 10502(d) may be filed at any time. The filing of a petition to revoke will not automatically stay the effectiveness of the exemption. Petitions for stay must be filed no later than December 24, 2014 (at least seven days before the exemption becomes effective).

An original and 10 copies of all pleadings, referring to Docket No. FD 35880 must be filed with the Surface Transportation Board, 395 E Street SW., Washington, DC 20423-0001. In addition, one copy of each pleading must be served on Karl Morell, Ball Janik LLP, 655 Fifteenth Street NW., Suite 225, Washington, DC 20005.

Board decisions and notices are available on our Web site at WWW.STB.DOT.GOV

Decided: December 12, 2014.
By the Board, Rachel D. Campbell, Director, Office of Proceedings.
Brendetta S. Jones,
Clerk Clearance.

[FR Doc. 2014-29549 Filed 12-16-14; 8:45 am]

BILLING CODE 4915-01-P